DEPARTMENT OF AGRICULTURE

Agricultural Marketing Service

7 CFR Part 205

[Document Number AMS-NOP-13-0011; NOP-13-01 PR]

RIN 0581-AD32

National Organic Program; Proposed Amendments to the National List of Allowed and Prohibited Substances (Crops and Processing); Correction

AGENCY: Agricultural Marketing Service, USDA.

ACTION: Proposed rule; correction.

SUMMARY: This document contains a correction to the proposed rule that was published on August 22, 2013, 78 FR 52100. In the proposed rule, the Regulatory Information Number (RIN) appears as RIN 0581-AD33. This number is incorrect. The correct number is 0581-AD32. This document corrects the proposed rule.

FOR FURTHER INFORMATION CONTACT: Melissa Bailey, Ph.D., Director, Standards Division, National Organic Program, Telephone: (202) 720-3252.

Correction

In proposed rule FR Doc. 2013-20476, beginning at page 52100 of the issue published August 22, 2013, make the following correction. On page 51200, third column, correct the RIN to read 0581-AD32.

Dated: August 23, 2013.
Rex Barnes,
Associate Administrator, Agricultural Marketing Service.

[FR Doc. 2013-21049 Filed 8-28-13; 8:45 am]

BILLING CODE 3410-02-P